DEPARTMENT OF DEFENSE

Department of the Air Force

Notice of Intent To Prepare an Environmental Impact Statement for Homeland Defense Over-the-Radar at Northwest Region

AGENCY: Department of the Air Force, Department of Defense.

ACTION: Notice of Intent.

SUMMARY: The Department of the Air Force (DAF) is issuing this Notice of Intent (NOI) to prepare an Environmental Impact Statement (EIS) to evaluate the potential environmental effects associated with the proposed acquisition of land for, and construction and operation of Homeland Defense Over-The-Horizon Radar (HLD-OTHR) transmission and receiver sites in the northwest region of the United States. Oregon Military Department (OMD) and Bureau of Land Management (BLM) are cooperating agencies pursuant to the National Environmental Policy Act (NEPA). Once constructed, the HLD-OTHR would provide persistent, long-range early detection capabilities of airborne threats approaching North America. This EIS is prepared to meet the requirements of both NEPA and the Federal Land Policy and Management Act of 1976. The Unique Identification Number for this EIS is EISX-007-57-UAF-1743672205.

DATES: A public scoping period of 45 days will take place starting from the date of this NOI publication in the Federal Register. The meetings will be held in the following communities on the following dates:

1. Mountain Home, Idaho—Tuesday, May 6, 2025, 5:00 p.m. to 7:00 p.m. MT.

2. McDermitt, Nevada—Wednesday, May 7, 2025, 5:00 p.m. to 7:00 p.m. PT.

3. Ontario, Oregon—Thursday, May 8, 2025, 5:00 p.m. to 7:00 p.m. MT.

4. Christmas Valley, Oregon—Tuesday, May 13, 2025, 5:00 p.m. to 7:00 p.m. PT.

5. Burns, Oregon—Wednesday, May 14, 2025, 5:00 p.m. to 7:00 p.m. PT.

6. Virtual—Monday, May 19, 2025, 5:00 p.m. to 7:00 p.m. MT.

ADDRESSES: Specific locations for public scoping meetings identified in the DATES section are:

1. American Legion Hall Post 101 at 715 S 3rd Street, Mountain Home, ID 83647.

2. McDermitt Community Center adjacent to the McDermitt Library at 135 Oregon Road, McDermitt, Nevada 89421.

3. Four Rivers Cultural Center & Museum, 676 SW 5th Ave., Ontario, Oregon 97914.

4. Christmas Valley Community Hall, 87345 Holly Lane, Christmas Valley, Oregon 97641.

5. Burns Chamber of Commerce, Burns, 484 N Broadway Ave., Burns, Oregon 97720.

6. Teams. Visit www.othrnweis.com for the meeting link.

Comments can also be submitted through U.S. mail to Attn. OTHR NW EIS, 3527 S Federal Way, Ste. 103 #1026, Boise, ID 83705.

FOR FURTHER INFORMATION CONTACT: Additional information on the HLD-OTHR at Northwest Region EIS can be found on the project website at www.othrnweis.com. Inquiries regarding the proposal should be directed to Austin Naranjo, Mountain Home AFB Public Affairs, 208-828-6800 or 366FW.PA.Public.Affairs@us.af.mil with “OTHR NW EIS” in the subject line. For printed material requests, the standard U.S. Postal Service shipping timeline will apply.

SUPPLEMENTARY INFORMATION: Under the Proposed Action, the DAF would acquire land for, and construct and operate two HLD-OTHR systems in the northwest region of the United States. Construction and operation of the proposed HLD-OTHR would provide enhanced regional long-range, early detection capability of airborne threats that may be obscured from conventional line of sight radar systems by the curvature of the Earth. These threats are difficult to detect and can strike with limited warning, which reduces the time and response options available to our national leaders. The Proposed Action is needed because U.S. adversaries continue to develop and deploy highly advanced weapons systems capable of disrupting or defeating our military and civilian targets in North America.

The DAF would acquire land currently owned and managed by OMD and seek to withdraw land managed by BLM for siting and construction of these facilities. The acquisition would involve the purchase, lease, and withdrawal of land, conducted through the DoD Major Land Acquisition Proposal.

The EIS will analyze the Proposed Action and a No Action Alternative. Key resources of concern, for which adverse impacts could occur, include cultural resources, visual resources, and biological resources. An assessment of potential impacts to all relevant resource areas will be included in the EIS, including an analysis of environmental effects that are reasonably foreseeable and have a close causal relationship to the Proposed Action.

Potential permits that may be required include, but are not limited to, General Construction and National Pollutant Discharge Elimination System. Additionally, the DAF will consult with U.S. Fish and Wildlife Service under Section 7 of the Endangered Species Act as well as Oregon State Historic Preservation Office and federally recognized tribes regarding Section 106 consultation under the National Historic Preservation Act.

Please provide comments on alternatives or impacts and on relevant information, studies, or analyses with respect to the proposed action. Comments will be accepted at any time during the Environmental Impact Analysis Process; however, to ensure the DAF has sufficient time to consider public scoping comments during preparation of the Draft EIS, please submit comments within the 45-day scoping period. Comments regarding the proposal can be submitted during the scoping meetings, project website, or see the ADDRESSES section in this document. The Draft EIS is anticipated in early 2026 and the Final EIS is anticipated in summer 2027. A decision could be made no earlier than 30 days after the Final EIS.

The DAF invites the public, stakeholders, and other interested parties to attend one or more of the five in-person and one virtual scoping meetings.

Tommy W. Lee,
Acting Air Force Federal Register Liaison Officer.

[FR Doc. 2025-06573 Filed 4-17-25; 8:45 am]

BILLING CODE 3911-44-P